DEPARTMENT OF DEFENSE

Office of the Secretary

Department of Defense Wage Committee (DoDWC); Notice of Federal Advisory Committee Meetings

AGENCY: Under Secretary of Defense for Personnel and Readiness, Department of Defense (DoD).

ACTION: Notice of closed Federal Advisory Committee meetings.

SUMMARY: The DoD is publishing this notice to announce that the following Federal Advisory Committee meetings of the DoDWC will take place.

DATES:

Tuesday, August 9, 2022 from 10:00 a.m. to 11:00 a.m. and will be closed to the public.

Tuesday, August 23, 2022 from 10:00 a.m. to 1:00 p.m. and will be closed to the public.

Tuesday, September 6, 2022 from 10:00 a.m. to 10:30 a.m. and will be closed to the public.

Tuesday, September 20, 2022 from 10:00 a.m. to 12:00 p.m. and will be closed to the public.

Tuesday, October 4, 2022 from 10:00 a.m. to 12:00 p.m. and will be closed to the public.

Tuesday, October 18, 2022 from 10:00 a.m. to 12:30 p.m. and will be closed to the public.

Tuesday, November 1, 2022 from 10:00 a.m. to 11:00 a.m. and will be closed to the public.

ADDRESSES: The closed meetings will be held by teleconference.

FOR FURTHER INFORMATION CONTACT: Mr. Karl Fendt, (571) 372-1618 (voice), karl.h.fendt.civ@mail.mil. (email), 4800 Mark Center Drive, Suite 05G21, Alexandria, Virginia 22350 (mailing address). Any agenda updates can be found at the DoDWC's official website: https://wageandsalary.dcpas.osd.mil/BWN/DODWC/.

SUPPLEMENTARY INFORMATION: These meetings are being held under the provisions of the Federal Advisory Committee Act (FACA) (5 U.S.C., appendix), the Government in the Sunshine Act (5 U.S.C. 552b), and 41 CFR 102-3.140 and 102-3.150.

Purpose of the Meeting: The purpose of these meetings is to provide independent advice and recommendations on matters relating to the conduct of wage surveys and the establishment of wage schedules for all appropriated fund and non-appropriated fund areas of blue-collar employees within the DoD.

Agendas

August 9, 2022

Opening Remarks by Chair and DFO.

Reviewing survey results and/or survey specifications for the following Appropriated Fund areas:

1. Any items needing further clarification or action from the previous agenda.

2. Wage Schedule (Full Scale) for the Hawaii wage area (AC-044).

3. Wage Schedule (Full Scale) for the Central & Western Massachusetts wage area (AC-069).

4. Wage Schedule (Full Scale) for the Southwestern Wisconsin wage area (AC-149).

5. Wage Schedule (Wage Change) for the Augusta, Georgia wage area (AC-038).

6. Wage Schedule (Wage Change) for the Macon, Georgia wage area (AC-041).

7. Wage Schedule (Wage Change) for the Southeastern Washington-Eastern Oregon wage area (AC-144).

8. Survey Specifications for the New Orleans, Louisiana wage area (AC-061).

9. Special Pay—Macon, Georgia Special Rates.

10. Any items needing further clarification from this agenda may be discussed during future scheduled meetings.

Closing Remarks by Chair.

August 23, 2022

Opening Remarks by Chair and DFO.

Reviewing survey results and/or survey specifications for the following Nonappropriated Fund areas:

1. Any items needing further clarification or action from the previous agenda.

2. Wage Schedule (Full Scale) for the Arapahoe-Denver, Colorado wage area (AC-084).

3. Wage Schedule (Full Scale) for the El Paso, Colorado wage area (AC-085).

4. Wage Schedule (Full Scale) for the Laramie, Wyoming wage area (AC-087).

5. Wage Schedule (Full Scale) for the New London, Connecticut wage area (AC-136).

6. Wage Schedule (Full Scale) for the Snohomish, Washington wage area (AC-141).

7. Wage Schedule (Full Scale) for the Pierce, Washington wage area (AC-143).

8. Wage Schedule (Full Scale) for the Newport, Rhode Island wage area (AC-167).

9. Wage Schedule (Wage Change) for the Hennepin, Minnesota wage area (AC-015).

10. Wage Schedule (Wage Change) for the Grand Forks, North Dakota wage area (AC-017).

11. Wage Schedule (Wage Change) for the Davis-Weber-Salt Lake, Utah wage area (AC-018).

12. Wage Schedule (Wage Change) for the Ada-Elmore, Idaho wage area (AC-038).

13. Wage Schedule (Wage Change) for the Cascade, Montana wage area (AC-040).

14. Wage Schedule (Wage Change) for the Spokane, Washington wage area (AC-043).

15. Survey Specifications for the Brevard, Florida wage area (AC-061).

16. Survey Specifications for the Hillsborough, Florida wage area (AC-119).

17. Survey Specifications for the Miami-Dade, Florida wage area (AC-158).

18. Survey Specifications for the Duval, Florida wage area (AC-159).

19. Survey Specifications for the Monroe, Florida wage area (AC-160).

Reviewing survey results and/or survey specifications for the following Appropriated Fund areas:

20. Wage Schedule (Full Scale) for the Central and Northern Maine area (AC-064).

21. Wage Schedule (Full Scale) for the Asheville, North Carolina wage area (AC-098).

22. Wage Schedule (Full Scale) for the Southwestern Oregon wage area (AC-113).

23. Wage Schedule (Full Scale) for the Austin, Texas wage area (AC-129).

24. Wage Schedule (Full Scale) for the Corpus Christi, Texas wage area (AC-130).

25. Wage Schedule (Wage Change) for the Duluth, Minnesota wage area (AC-074).

26. Wage Schedule (Wage Change) for the San Antonio, Texas wage area (AC-135).

27. Wage Schedule (Wage Change) for the Milwaukee, Wisconsin wage area (AC-148).

28. Survey Specifications for the Richmond, Virginia wage area (AC-141).

29. Special Pay—Southwestern Oregon Special Rates.

30. Any items needing further clarification from this agenda may be discussed during future scheduled meetings.

Closing Remarks by Chair.

September 6, 2022

Opening Remarks by Chair and DFO.

Reviewing survey results and/or survey specifications for the following Appropriated Fund areas:

1. Any items needing further clarification or action from the previous agenda.

2. Wage Schedule (Wage Change) for the Boise, Idaho wage area (AC-045).

3. Wage Schedule (Wage Change) for the Puerto Rico wage area (AC-151).

4. Special Pay—Puerto Rico Special Rates.

5. Any items needing further clarification from this agenda may be discussed during future scheduled meetings.

Closing Remarks by Chair.

September 20, 2022:

Opening Remarks by Chair and DFO.

Reviewing survey results and/or survey specifications for the following Nonappropriated Fund areas:

1. Any items needing further clarification or action from the previous agenda.

2. Wage Schedule (Full Scale) for the Frederick, Maryland wage area (AC-088).

3. Wage Schedule (Full Scale) for the Washington, District of Columbia wage area (AC-124).

4. Wage Schedule (Full Scale) for the Alexandria-Arlington-Fairfax, Virginia wage area (AC-125).

5. Wage Schedule (Full Scale) for the Prince William, Virginia wage area (AC-126).

6. Wage Schedule (Full Scale) for the Prince George's-Montgomery, Maryland wage area (AC-127).

7. Wage Schedule (Full Scale) for the Charles-St. Mary's, Maryland wage area (AC-128).

8. Wage Schedule (Full Scale) for the Anne Arundel, Maryland wage area (AC-147).

9. Wage Schedule (Wage Change) for the Burlington, New Jersey wage area (AC-071).

10. Wage Schedule (Wage Change) for the Kent, Delaware wage area (AC-076).

11. Wage Schedule (Wage Change) for the Richmond-Chesterfield, Virginia wage area (AC-082).

12. Wage Schedule (Wage Change) for the Morris, New Jersey wage area (AC-090).

Reviewing survey results and/or survey specifications for the following Appropriated Fund areas:

13. Wage Schedule (Full Scale) for the Alaska wage area (AC-007).

14. Wage Schedule (Full Scale) for the Montana wage area (AC-083).

15. Wage Schedule (Full Scale) for the Charleston, South Carolina wage area (AC-119).

16. Wage Schedule (Wage Change) for the Utah wage area (AC-139).

17. Wage Schedule (Wage Change) for the Spokane, Washington wage area (AC-145).

18. Any items needing further clarification from this agenda may be discussed during future scheduled meetings.

Closing Remarks by Chair.

October 4, 2022

Opening Remarks by Chair and DFO.

Reviewing survey results and/or survey specifications for the following Nonappropriated Fund areas:

1. Any items needing further clarification or action from the previous agenda.

2. Survey Specifications for the Sacramento, California wage area (AC-002).

3. Survey Specifications for the San Joaquin, California wage area (AC-008).

4. Survey Specifications for the Bernalillo, New Mexico area (AC-019).

5. Survey Specifications for the Dona Ana, New Mexico wage area (AC-021).

6. Survey Specifications for the El Paso, Texas wage area (AC-023).

Reviewing survey results and/or survey specifications for the following Appropriated Fund areas:

7. Wage Schedule (Full Scale) for the Cedar Rapids-Iowa City, Iowa wage area (AC-052).

8. Wage Schedule (Full Scale) for the Portland, Oregon area (AC-112).

9. Wage Schedule (Full Scale) for the Wichita Falls, Texas-Southwestern Oklahoma wage area (AC-138).

10. Wage Schedule (Full Scale) for the Madison, Alabama wage area (AC-147).

11. Wage Schedule (Wage Change) for the Dothan, Alabama wage area (AC-003).

12. Wage Schedule (Wage Change) for the Washington, District of Columbia wage area (AC-027).

13. Wage Schedule (Wage Change) for the Columbus, Georgia wage area (AC-040).

14. Wage Schedule (Wage Change) for the Charlotte, North Carolina wage area (AC-100).

15. Wage Schedule (Wage Change) for the Oklahoma City, Oklahoma wage area (AC-109).

16. Wage Schedule (Wage Change) for the Tulsa, Oklahoma wage area (AC-111).

17. Wage Schedule (Wage Change) for the Pittsburgh, Pennsylvania wage area (AC-116).

18. Special Pay—Portland, Oregon Special Rates.

19. Special Pay—Missouri River Power Rate Schedule.

20. Any items needing further clarification from this agenda may be discussed during future scheduled meetings.

Closing Remarks by Chair.

October 18, 2022

Opening Remarks by Chair and DFO.

Reviewing survey results and/or survey specifications for the following Nonappropriated Fund areas:

1. Any items needing further clarification or action from the previous agenda.

2. Wage Schedule (Full Scale) for the Los Angeles, California wage area (AC-130).

3. Wage Schedule (Full Scale) for the Orange, California wage area (AC-131).

4. Wage Schedule (Full Scale) for the Ventura, California wage area (AC-132).

5. Wage Schedule (Full Scale) for the Riverside, California wage area (AC-133).

6. Wage Schedule (Full Scale) for the San Bernardino, California wage area (AC-134).

7. Wage Schedule (Full Scale) for the Santa Barbara, California wage area (AC-135).

8. Wage Schedule (Full Scale) for the Guam wage area (AC-150).

9. Wage Schedule (Wage Change) for the Monterey, California wage area (AC-003).

10. Wage Schedule (Wage Change) for the Kern, California wage area (AC-010).

11. Wage Schedule (Wage Change) for the San Diego, California wage area (AC-054).

12. Wage Schedule (Wage Change) for the Solano, California wage area (AC-059).

Reviewing survey results and/or survey specifications for the following Appropriated Fund areas:

13. Wage Schedule (Full Scale) for the Little Rock, Arkansas wage area (AC-011).

14. Wage Schedule (Full Scale) for the Boston, Massachusetts wage area (AC-068).

15. Wage Schedule (Wage Change) for the Albany, Georgia wage area (AC-036).

16. Wage Schedule (Wage Change) for the Northwestern Michigan wage area (AC-071).

17. Wage Schedule (Wage Change) for the Scranton-Wilkes Barre, Pennsylvania wage area (AC-117).

18. Survey Specifications for the Denver, Colorado wage area (AC-022).

19. Survey Specifications for the Jacksonville, Florida wage area (AC-030).

20. Survey Specifications for the Detroit, Michigan wage area (AC-070).

21. Survey Specifications for the Southeastern North Carolina wage area (AC-101).

22. Survey Specifications for the Columbus, Ohio wage area (AC-106).

23. Survey Specifications for the Narragansett Bay, Rhode Island wage area (AC-118).

24. Special Pay—Boston, Massachusetts Special Rates.

25. Any items needing further clarification from this agenda may be discussed during future scheduled meetings.

Closing Remarks by Chair.

November 1, 2022

Opening Remarks by Chair and DFO.

Reviewing survey results and/or survey specifications for the following Nonappropriated Fund areas:

1. Any items needing further clarification or action from the previous agenda.

2. Survey Specifications for the Lauderdale, Mississippi wage area (AC-001).

3. Survey Specifications for the Lowndes, Mississippi wage area (AC-004).

4. Survey Specifications for the Rapides, Louisiana wage area (AC-024).

5. Survey Specifications for the Caddo-Bossier, Louisiana wage area (AC-025).

6. Survey Specifications for the Chatham, Georgia wage area (AC-037).

7. Survey Specifications for the Dougherty, Georgia wage area (AC-046).

8. Survey Specifications for the Lowndes, Georgia wage area (AC-047).

9. Any items needing further clarification from this agenda may be discussed during future scheduled meetings.

Closing Remarks by Chair.

Meeting Accessibility: Pursuant to 5 U.S.C. 552b(c)(4), the DoD has determined that the meetings shall be closed to the public. The Under Secretary of Defense for Personnel and .Readiness, in consultation with the DoD Office of General Counsel, has determined in writing that each of these meetings is likely to disclose trade secrets and commercial or financial information obtained from a person and privileged or confidential.

Written Statements: Pursuant to section 10(a)(3) of the Federal Advisory Committee Act and 41 CFR 102-3.140, interested persons may submit written statements to the Designated Federal Officer for the DoDWC at any time. Written statements should be submitted to the Designated Federal Officer at the email or mailing address listed in the FOR FURTHER INFORMATION CONTACT section. If statements pertain to a specific topic being discussed at a planned meeting, then these statements must be submitted no later than five (5) business days prior to the meeting in question. Written statements received after this date may not be provided to or considered by the DoDWC until its next meeting. The Designated Federal Officer will review all timely submitted written statements and provide copies to all the committee members before the meeting that is the subject of this notice.

Dated: July 18, 2022.
Aaron T. Siegel,
Alternate OSD Federal Register Liaison Officer, Department of Defense.

[FR Doc. 2022-15630 Filed 7-20-22; 8:45 am]

BILLING CODE 5001-06-P